DEPARTMENT OF COMMERCE

National Oceanic and Atmospheric Administration

50 CFR Part 679

[Docket No. 0810141351-9087-02]

RIN 0648-XS12

Fisheries of the Exclusive Economic Zone Off Alaska; Reallocation of Yellowfin Sole in the Bering Sea and Aleutian Islands Management Area

AGENCY: National Marine Fisheries Service (NMFS), National Oceanic and Atmospheric Administration (NOAA), Commerce.

ACTION: Temporary rule; reallocation.

SUMMARY: NMFS is reallocating the projected unused amount of the 2009 yellowfin sole total allowable catch (TAC) assigned to the Bering Sea and Aleutian Islands trawl limited access sector to the Amendment 80 cooperative in the Bering Sea and Aleutian Islands management area (BSAI). This action is necessary to allow the 2009 total allowable catch of yellowfin sole to be fully harvested.

DATES: Effective October 5, 2009, through 2400 hrs, Alaska local time (A.l.t.), December 31, 2009.

FOR FURTHER INFORMATION CONTACT: Steve Whitney, 907-586-7269.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2009 yellowfin sole TAC assigned to the Bering Sea and Aleutian Islands trawl limited access sector is 39,154 metric tons (mt) and to the Amendment 80 cooperative is 87,987 mt in the BSAI as established by the final 2009 and 2010 harvest specifications for groundfish in the BSAI (74 FR 7359, February 17, 2009).

The Administrator, Alaska Region, NMFS, has determined that 6,000 mt of the yellowfin sole TAC assigned to the BSAI trawl limited access sector will not be harvested. Therefore, in accordance with § 679.91(f), NMFS reallocates 6,000 mt of yellowfin sole from the BSAI trawl limited access sector to the Amendment 80 cooperative in the BSAI. In accordance with § 679.91(f), NMFS will reissue cooperative quota permits for the reallocated yellowfin sole following the procedures set forth in § 679.91(f)(3).

The harvest specifications for yellowfin sole included in the harvest specifications for groundfish in the BSAI (74 FR 7359, February 17, 2009) are corrected as follows: 33,154 mt to the BSAI trawl limited access sector and 93,987 mt to the Amendment 80 cooperative in the BSAI. Table 7a is corrected as set forth below:

Table 7a—Final 2009 Community Development Quota (CDQ) Reserves, Incidental Catch Amounts (ICAs), and Amendment 80 Allocations of the Aleutian Islands Pacific Ocean Perch, and BSAI Flathead Sole, Rock Sole, and Yellowfin Sole TACs
[Amounts are in metric tons]
Sector | Pacific ocean perch: Eastern Aleutian district | Pacific ocean perch: Central Aleutian district | Pacific ocean perch: Western Aleutian district | Flathead sole: BSAI | Rock sole: BSAI | Yellowfin sole: BSAI
TAC | 4,200 | 4,260 | 6,520 | 60,000 | 90,000 | 210,000
CDQ | 449 | 456 | 698 | 6,420 | 9,630 | 22,470
ICA | 100 | 10 | 10 | 4,500 | 5,000 | 2,000
BSAI trawl limited access | 365 | 379 | 116 | 0 | 0 | 33,154
Amendment 80 | 3,286 | 3,415 | 5,696 | 49,080 | 75,370 | 146,376
Amendment 80 limited access | 1,742 | 1,811 | 3,020 | 5,729 | 18,559 | 58,389
Amendment 80 cooperatives | 1,543 | 1,604 | 2,676 | 43,351 | 56,811 | 93,987

This will enhance the socioeconomic well-being of harvesters dependent upon yellowfin sole in this area. The Regional Administrator considered the following factors in reaching this decision: (1) The current catch of yellowfin sole by the BSAI trawl limited access sector and, (2) the harvest capacity and stated intent on future harvesting patterns of the Amendment 80 cooperative that participates in this BSAI fishery.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of yellowfin sole from the BSAI trawl limited access sector to the Amendment 80 cooperative in the BSAI. Since the fishery is currently open, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of October 1, 2009.

The AA also finds good cause to waive the 30-day delay in the effective date of this action under 5 U.S.C. 553(d)(3). This finding is based upon the reasons provided above for waiver of prior notice and opportunity for public comment.

This action is required by § 679.91 and is exempt from review under Executive Order 12866.

Authority: 16 U.S.C. 1801 et seq.

Dated: October 5, 2009.
Emily H. Menashes,
Acting Director, Office of Sustainable Fisheries, National Marine Fisheries Service.

[FR Doc. E9-24282 Filed 10-5-09; 4:15 pm]

BILLING CODE 3510-22-P